INTERNATIONAL TRADE COMMISSION

[USITC SE-06-016]

Sunshine Act Meeting

Agency Holding The Meeting: International Trade Commission.

Time and Date: March 14, 2006 at 1 p.m.

Place: Room 101, 500 E Street, SW., Washington, DC 20436, Telephone: (202) 205-2000.

Status: Open to the public.

Matters To Be Considered: 1. Agenda for future meetings: none.

2. Minutes.

3. Ratification List.

4. Inv. No. 731-TA-856 (Review)(Ammonium Nitrate from Russia)—briefing and vote. (The Commission is currently scheduled to transmit its determination and Commissioners' opinions to the Secretary of Commerce on or before March 27, 2006.)

5. Outstanding action jackets: none.

In accordance with Commission policy, subject matter listed above, not disposed of at the scheduled meeting, may be carried over to the agenda of the following meeting.

Issued: March 1, 2006.
By order of the Commission:
Marilyn R. Abbott,
Secretary to the Commission.

[FR Doc. 06-2102 Filed 3-1-06; 2:39 pm]

BILLING CODE 7020-02-P